ENVIRONMENTAL PROTECTION AGENCY

[FRL-7138-7]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Sandy Farmer at 260-2740, or e-mail at Farmer.sandy@epa.gov. and please refer to the appropriate EPA Information Collection Request (ICR) Number.

SUPPLEMENTARY INFORMATION:

OMB Responses to Agency Clearance Requests

OMB Approvals

EPA ICR No. 1463.05; National Oil and Hazardous Substances Pollution Contingency Plan (NCP); in 40 CFR parts 300.430-300.435 was approved 10/04/2001; OMB No. 2050-0096; expires 10/31/2004.

EPA ICR No. 1564.05; NSPS for Small Industrial-Commercial-Institutional Steam Generating Units; in 40 CFR part 60, subpart Dc; was approved 10/12/2001; OMB No. 2060-0202; expires 10/31/2004.

EPA ICR No. 1086.06; NSPS Standards of Performance for Onshore Natural Gas Processing Plants; in 40 CFR part 60, subpart KKK and LLL; was approved 10/12/2001; OMB No. 2060-0210; expires 10/31/2004.

EPA ICR No. 1587.05; Operating Permits Regulations; in 40 CFR part 70; was approved 10/12/2001; OMB No. 2060-0243; expires 10/31/2004.

EPA ICR No. 1897.02; Information Requirements for Marine Diesel Engines; in 40 CFR 40 part 96; was approved 10/12/2001; OMB No. 2060-0460; expires 10/31/2004.

EPA ICR No. 1726.03; Marine Engine Manufacturer In-House Emission Testing Program Reporting and Recordkeeping, in 40 CFR part 91, subpart N; was approved 10/12/2001; OMB No. 2060-0322; expires 10/31/2004.

EPA ICR No. 1596.05; Information Collection Activities; Significant New Alternatives Policy (SNAP) Program Final Rulemaking under Title VI of the Clean Air Act Amendments of 1990; in 40 CFR part 82, subpart G; was approved 10/12/2001; OMB No. 2060-0226; expires 10/31/2004.

EPA ICR No. 1058.07; NSPS for Incinerators; in 40 CFR part 60, subpart E; was approved 10/12/2001; OMB No. 2060-0040; expires 10/31/2004.

EPA ICR No. 1658.03; Control Technology Determinations for Constructed or Reconstructed Major Sources of Hazardous Air Pollutants; in 40 CFR part 63, subpart B; was approved 10/12/2001; OMB No. 2060-0373; expires 10/31/2004.

EPA ICR No. 0586.09; TSCA Section 8(A) Preliminary Assessment Information Rule (PAIR); was approved 10/15/2001; in 40 CFR part 712; OMB No. 2070-0054; expires 10/31/2004.

EPA ICR No. 1655.04; Detergent Gasoline: Certification Requirements for Manufacturers of Detergent Additives; Requirements for Transferors and Transferees of Detergent Additives; Requirements for; in 40 CFR part 80 subpart G; was approved 10/12/2001; OMB No. 2060-0275; expires 10/31/2004.

EPA ICR No. 1078.06; NSPS for Phosphate Rock Plants; in 40 CFR part 60 subpart NN; was approved 10/15/2001; OMB No. 2060-0111; expires 10/31/2004.

EPA ICR No. 1676.03; Clean Air Act Tribal Authority; was approved 10/15/2001; in 40 CFR parts 35, 49, 50 and 81; OMB No. 2060-0306; expires 10/31/2004.

EPA ICR No. 1414.04; National Emissions Standards for Organic Hazardous Air Pollutants from the Synthetic Organic Chemical Manufacturing Industry (SOCMI) Hazardous Organic NESHAP (HON); in 40 CFR part 63, subpart F, G, H, I; was approved 10/15/2001; OMB No. 2060-0282; expires 10/31/2004.

EPA ICR No. 1050.16; NSPS for Storage Vessels for Petroleum Liquids; in 40 CFR part 60, subpart Ka; was approved 10/12/2001; OMB No. 2060-0212; expires 10/31/2004.

EPA ICR No. 1808.03; Environmental Impact Assessment of Nongovernmental Activities in Antarctica; in 40 CFR part 8; was approved 10/15/2001; OMB No. 2020-0007; expires 10/31/2004.

EPA ICR No. 1807.02; National Emissions Standards for Hazardous Air Pollutants—Pesticide Ingredient Production; in 40 CFR part 63, subpart MMM; was approved 10/16/2001; OMB No. 2060-3070; expires 10/31/2004.

EPA ICR No. 2018.01; Pollution Prevention Compliance Alternative; Transportation Equipment Cleaning (TEC) Point Source Category; in 40 CFR part 442; was approved 10/15/2001 OMB No. 2040-0235; expires 10/31/2004.

EPA ICR No. 0143.07; Recordkeeping Requirements for Producers of Pesticides under Section 8 of the Federal Insecticide, Fungicide, and Rodenticide Act (FIFRA); in 40 CFR part 169; was approved 10/15/2001; OMB No. 2070-0028; expires 10/31/2004.

EPA ICR No. 0234.07; Performance Evaluation Studies on Water and Wastewater Laboratories; in 40 CFR part 136, 141, and 142; was approved 10/15/2001; OMB No. 2080-0021; expires 10/31/2002.

EPA ICR No. 1791.03; Establishing No-Discharge Zones (NDZs) Under Clean Water Act Section 312; in 40 CFR part 139; was approved 10/15/2001; OMB No. 2040-0187; expires 10/31/2004.

EPA ICR No. 1139.06; TSCA Section 4 Test Rules, Consent Orders, Test Rule Exemptions, and Voluntary Data Submission; was approved 10/15/2001; OMB No. 1139.06; expires 10/31/2004.

EPA ICR No. 0328.09; Spill Prevention, Control and Countermeasure (SPCC) Plans; was approved 10/15/2001; in 40 CFR 112.1-112.7; OMB No. 2050-0021; expires 10/13/2004.

EPA ICR No. 1680.03; Combined Sewer Overflow Policy; was approved 10/15/2001; OMB No. 2040-0170; expires 10/31/2004.

EPA ICR No. 1914/01; Valuing Inland Water Quality Improvements; was approved 10/15/2001; OMB No. 2010-0031; expires 10/31/2004.

EPA ICR No. 1652.04; NESHAP for Halogenated Solvent Cleaners/Halogenated Hazardous Air Pollutants; in 40 CFR part 63, subpart T; was approved 10/16/2001; OMB No. 2060-0273; expires 10/31/2003.

EPA ICR No. 1352.08; Community Right-to-Know Reporting Requirements under Sections 311 and 312 of the Emergency Planning and Community Right-to-Know Act (EPCRA); in 40 CFR part 370.21, .25, and .30; was approved 10/31/2001; OMB No. 2050-0072; expires 10/31/2004.

EPA ICR No. 1773.03; NESHAP for Hazardous Waste Combusters (Direct Final Rule); in 40 CFR part 63, subpart EEE; was approved 10/16/2001; OMB No. 2050-0171; expires 10/31/2004.

EPA ICR No. 1816.02; State Source Water Assessment and Protection Programs; was approved 10/18/2001; OMB No. 2040-0197; expires 10/31/2004.

EPA ICR No. 1132.06; NSPS for Volatile Organic Liquid Storage Vessels; in 40 CFR part 60, subpart Kb; was approved 10/25/2001; OMB No. 2060-0074; expires 10/31/2004.

EPA ICR No. 1713.04; Federal Operating Permit Program of the Clean Air Act; in 40 CFR part 71; was approved 10/25/2001; OMB No. 2060-0336; expires 10/31/2004.

EPA ICR No. 0916.11; Annual Updates of Emission Data to the Aerometric Information Retrieval System (AIRS); was approved 10/29/2001; OMB No. 2069-0088; expires 10/31/2004.

EPA ICR No. 1360.06; in 40 CFR part 280 and 281; Underground Storage Tanks: Technical & Financial Requirements & State Program Approval Procedures; was approved 10/29/2001; OMB No. 2050-0068; expires 10/31/2004.

EPA ICR No. 0820.08; Hazardous Waste Generator Standards; 40 CFR part 262; was approved 10/29/2001; OMB No. 2050-0035; expires 10/31/2004.

EPA ICR No. 1158.07; Standards of Performance for New Stationary Sources; Rubber Tire Manufacturing; in 40 CFR part 60, subpart BBB; OMB No. 2060-0156; expires 10/31/2004.

EPA ICR No. 0657.07; New Source Performance Standards for Graphic Arts Industry; in 40 CFR part 60, subpart QQ; was approved 10/29/2001; OMB 2060-0105; expires 10/31/2004.

EPA ICR No. 1748.03; State Small Business Stationary Source Technical and Environmental Compliance Assistance Program Annual Reporting Form; was approved 10/29/2001; OMB 2060-0337; expires 10/31/2004.

Short Term Extensions

EPA ICR No. 1832.02; Consumer Confidence Reports for Community Water Systems; OMB No. 2040-0201; on 09/26/2001 OMB extended the expiration date through 12/30/2001.

EPA ICR No. 1860.01; Agency Generic Information Collection Request, regional compliance Assistance Program Evaluation; OMB No. 2020-0015; on 09/25/2001 OMB extended the expiration date through 12/30/2001.

EPA ICR No. 1741.02; Correction of Misreported Chemical Substances on the Toxic Substances Control Act (TSCA) Chemical Substances Inventory; OMB No. 2070-0145; on 09/25/2001 OMB extended the expiration date through 12/30/2001.

EPA ICR No. 1637.04; General Conformity of Federal Actions to State Implementation Plans; in 40 CFR part 51, subpart W and part 93, subpart B; OMB No. 2060-0279; on 09/28/2001 OMB extended the expiration date through 12/30/2001.

EPA ICR No. 1800.01; Information Requirements for Locomotives and Locomotive Engines; in 40 CFR part 92 subpart D; OMB 2060-0392; on 09/28/2001 OMB extended the expiration date through 12/30/2001.

EPA ICR No. 1831.01; NESHAP for Ferroalloys Production; in 40 CFR part 63, Subpart XXX; OMB No. 2060-0391; on 09/28/2001 OMB extended the expiration date through 10/31/2001.

EPA ICR No. 1836.01; Public Water System Supervision Primary Regulation in 40 CFR part 142; OMB No. 2040-0195; on 09/26/2001 OMB extended the expiration date through 12/30/2001.

EPA ICR No. 1955.01; Operator Certification Guidelines and Operator Certificate Expense Reimbursement Grants Program; OMB No. 2040-0236; on 10/29/2001 OMB extended the expiration date through 02/2002.

OMB Withdrawals

EPA ICR No. 1923.02; Radon in Drinking Water; on 10/18/2001 was withdrawn from OMB review.

EPA ICR No. 1931.01; Information Collection Request for Proposed NPDES Requirements for Municipal Sanitary Sewers, Municipal Satellite Collection Systems and Sanitary Sewer Outflows on 10/18/2001 was withdrawn from OMB review.

EPA ICR No. 1937.01; Guidance Manual and Example NPDES Permit for Concentrated Animal Feeding Operations on 10/18/2001 was withdrawn from OMB review.

EPA ICR No. 0226.16; Application for NPDES Ocean Discharge Permit (CWA Section 403) Proposed Rule was withdrawn from OMB review.

EPA ICR No. 1362.04; National Emissions Standards for Coke Oven Batteries, 40 CFR part 63, subpart L, on 10/17/2001 was withdrawn from OMB review.

Comment Filed

EPA ICR No. 1715.04; TSCA Sections 402 and 404 Training and Certification, Accreditation and Standards for Lead-Based Paint Activities (Proposed Rule); OMB No. 2070-0155; on 10/12/2001 OMB filed comment.

EPA ICR No. 0783.01; Vehicle Emission Certification and Fuel Economy Compliance (Proposed Rule—Vehicle and Engine Service Information); OMB No. 2060-0104; on 10/12/2001 OMB filed comment.

EPA ICR No. 1805.02; NESHAP subpart S, Pulp and Paper Industry; OMB No. 2060-0377; on 10/12/2001 OMB filed comment.

Disapproved

EPA ICR No. 1956.01; Investigations into Possible Noncompliance of Stationary Sources with the Accidental Release Prevention Program Established in 40 CFR part 68; was disapproved by OMB on 10/17/2001.

EPA ICR No. 2019.01; Stakeholder Preferences Regarding Environmental Quality, Quality of Life, and Economic Development in Survey of Cape May County, New Jersey; was disapproved by OMB 10/26/2001.

Dated: January 29, 2002.
Oscar Morales,
Director, Collection Strategies Division.

[FR Doc. 02-2979 Filed 2-6-02; 8:45 am]

BILLING CODE 6560-50-M